DEPARTMENT OF THE INTERIOR

Bureau of Land Management

[LLNV9230000 L13100000.FI0000 241A; NVN-75901; 11-08807; MO#4500020701; TAS: 14x1109]

Notice of Proposed Reinstatement of Terminated Oil and Gas Lease; Nevada

AGENCY: Bureau of Land Management, Interior.

ACTION: Notice of proposed reinstatement of terminated oil and gas lease.

SUMMARY: Pursuant to the provisions of 30 U.S.C. 188(d) and (e), and 43 CFR 3108.2-3(a) and (b), the Bureau of Land Management (BLM) received a petition for reinstatement from SandRidge Energy, Inc. and DY Exploration, Inc., for noncompetitive oil and gas lease NVN-75901 on land in Nye County, Nevada. The petition was timely filed and was accompanied by all the rentals due since the lease terminated under the law. No valid lease has been issued affecting the lands.

FOR FURTHER INFORMATION CONTACT: Atanda Clark, BLM Nevada State Office, 775-861-6632, or e-mail: Atanda_Clark@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The lessees have agreed to the amended lease terms for rental and royalties at rates of $5 per acre or fraction thereof per year and 16⅔ percent, respectively. The lessees have paid the required $500 administrative fee and have reimbursed the Department for the cost of this Federal Register notice. The lessees have met all of the requirements for reinstatement of the lease as set out in Section 31(d) and (e) of the Mineral Leasing Act of 1920 (30 U.S.C. 188), and the BLM is proposing to reinstate the lease effective June 1, 2010 under the original terms and conditions of the lease and the increased rental and royalty rates cited above. The BLM has not issued a lease affecting the lands encumbered by this lease to any other interest in the interim.

Authority: 43 CFR 3108.2-3(a).

Gary Johnson,
Deputy State Director, Minerals Management.

[FR Doc. 2011-12034 Filed 5-16-11; 8:45 am]

BILLING CODE 4310-HC-P